DEPARTMENT OF COMMERCE

International Trade Administration

[A-533-901]

Organic Soybean Meal From India: Preliminary Results, Preliminary Intent To Rescind, in Part, and Partial Rescission of Antidumping Duty Administrative Review; 2021-2023

AGENCY: Enforcement and Compliance, International Trade Administration, Department of Commerce.

SUMMARY: The U.S. Department of Commerce (Commerce) preliminarily determines that Shanti Worldwide made sales of organic soybean meal from India at below normal value during the period of review (POR), November 2, 2021, through April 30, 2023. Additionally, we find that Shri Sumati Industries Pvt. Ltd. (Sumati), did not make bona fide sales during the POR. Accordingly, Commerce preliminarily intends to rescind this review with respect to Sumati. Further, we are rescinding the review with respect to 35 companies for which the review requests were timely withdrawn. We invite interested parties to comment on these preliminary results.

DATES: Applicable June 5, 2024.

FOR FURTHER INFORMATION CONTACT: Mark Hoadley AD/CVD Operations, Office VII, Enforcement and Compliance, International Trade Administration, U.S. Department of Commerce, 1401 Constitution Avenue NW, Washington, DC 20230; telephone: (202) 482-3148.

SUPPLEMENTARY INFORMATION:

Background

On May 16, 2022, Commerce issued the antidumping duty order on organic soybean meal from India.¹ On May 31, 2023, Commerce received requests for administrative review from Ecopure Specialties Ltd. (Ecopure), Shanti Worldwide, Sumati, and the Organic Soybean Processors of America (the petitioner).² Based on these timely requests for review, and in accordance with 19 CFR 351.221(c)(1)(i), Commerce initiated an administrative review of the Order covering 37 companies.³ On July 26, 2023, the petitioner withdrew its request for review of five companies ⁴ and on October 6, 2023, the petitioner withdrew its request for all companies for which it initially requested review.⁵ On October 10, 2023, Ecopure withdrew its request for review of itself.⁶ Thus, there are no outstanding review requests for any companies except Shanti Worldwide and Sumati. On January 18, 2024, we extended the deadline for these preliminary results until no later than May 30, 2024.⁷

¹ See Organic Soybean Meal from India: Antidumping Duty Order, 87 FR 29737 (May 16, 2022) (Order).

² See Ecopure's Letter, “Ecopure Specialties Limited's Request for Administrative Review,” dated May 31, 2023; Shanti Worldwide's Letter, “Request for Antidumping Duty Administrative Review,” dated May 31, 2023; and Sumati's Letter, “Request for Antidumping Duty Administrative Review,” dated May 31, 2023; and Petitioner's Letter, “Request for Administrative Review,” dated May 31, 2023.

³ See Initiation of Antidumping and Countervailing Duty Administrative Reviews, 88 FR 44262 (July 12, 2023).

⁴ See Petitioner's Letter, “Partial Withdrawal of Request for Administrative Review,” dated July 26, 2023.

⁵ See Petitioner's Letter, “Withdrawal of Request for Administrative Review,” dated October 6, 2023.

⁶ See Ecopure's Letter, “Ecopure Specialties Private Limited's Withdrawal of Request for Administrative Review,” dated October 10, 2023.

⁷ See Memorandum, “Extension of Deadline for Preliminary Results of Antidumping Duty Administrative Review,” dated January 18, 2024.

Scope of the Order

The product covered by the Order is certified organic soybean meal. For a full description of the scope of the Order, see the Preliminary Decision Memorandum.

Rescission of Administrative Review, in Part

Pursuant to 19 CFR 351.213(d)(1), Commerce will rescind an administrative review, in whole or in part, if a party who requested the review withdraws the request within 90 days of the date of publication of the notice of initiation. As noted above, all requests for administrative review were timely withdrawn for all companies except Shanti Worldwide and Sumati. Therefore, in accordance with 19 CFR 351.213(d)(1), we are rescinding this administrative review with respect to 35 companies named in the Initiation Notice.⁸

⁸ See Appendix II for a list of these companies.

Intent To Rescind, in Part

As discussed in the Preliminary Decision Memorandum and as further explained in the Bona Fides Sales Memorandum, Commerce preliminarily finds that Sumati did not make a bona fide sale of organic soybean meal during the POR.⁹ Commerce reached this conclusion based on the totality of the record information surrounding Sumati's reported sale, including, but not limited to, the sales quantity, profitability, and expenses arising from the sale.

⁹ See Memoranda, “Preliminary Bona Fide Sales Analysis for Shri Sumati Industries Pvt. Ltd.,” dated concurrently with this notice (Bona Fide Sales Memorandum) and “Decision Memorandum for the Preliminary Results, Preliminary Intent to Rescind, in Part, and Partial Recission of the Antidumping Duty Administrative Review of the Antidumping Duty Order on Organic Soybean Meal from India; 2021-2023,” dated concurrently with, and hereby adopted by, this notice.

Because we preliminarily find that Sumati did not make a bona fide sale during the POR, we find that Sumati had no reviewable transactions during the POR. Accordingly, we preliminarily intend to rescind this administrative review with regards to Sumati. The factual information used in our bona fide sales analysis of Sumati involves business proprietary information. See the Bona Fide Sales Memorandum for a full discussion of the basis of our preliminary findings.

Methodology

Commerce is conducting this review in accordance with section 751(a) of the Tariff Act of 1930, as amended (the Act). Because Commerce preliminarily finds that Shanti Worldwide failed to cooperate to the best of its ability in responding to our requests for information, we relied on facts available, with adverse inferences (AFA), in determining this company's dumping margin, consistent with section 776 of the Act.

For a full description of the methodology underlying our conclusions, see the Preliminary Decision Memorandum. A list of topics included in the Preliminary Decision Memorandum is included in Appendix I of this notice. The Preliminary Decision Memorandum is on file electronically via Enforcement and Compliance's Antidumping and Countervailing Duty Centralized Electronic Service System (ACCESS). ACCESS is available to registered users at https://access.trade.gov. In addition, the Preliminary Decision Memorandum can be accessed directly at https://access.trade.gov/public/FRNoticesListLayout.aspx.

Preliminary Results of Review

As a result of our review, we preliminarily determine the following estimated weighted-average dumping margin for the period November 2, 2021, through April 30, 2023:

Manufacturer/exporter | Weighted- average dumping margin (percent)
Shanti Worldwide | 18.80

Disclosure and Public Comment

Normally, Commerce discloses to interested parties the calculations performed in connection with preliminary results within five days of any public announcement or, if there is no public announcement, within five days of the date of publication of the notice of preliminary results in the Federal Register, in accordance with 19 CFR 351.224(b). However, because Commerce preliminarily applied AFA to the individually examined company, Shanti Worldwide, in accordance with section 776(a) and (b) of the Act, there are no calculations to disclose.

Pursuant to 19 CFR 351.309(c), interested parties may submit case briefs to Commerce no later than 30 days after the date of publication of this notice. Rebuttal briefs, limited to issues raised in the case briefs, may be filed not later than five days after the date for filing case briefs.¹⁰ Interested parties who submit case briefs or rebuttal briefs in this proceeding must submit: (1) a table of contents listing each issue; and (2) a table of authorities.¹¹

¹⁰ See 19 CFR 351.309(d); see also Administrative Protective Order, Service, and Other Procedures in Antidumping and Countervailing Duty Proceedings, 88 FR 67069, 67077 (September 29, 2023) (APO and Service Final Rule).

¹¹ See 19 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹² Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).¹³

¹² We use the term “issue” here to describe an argument that Commerce would normally address in a comment of the Issues and Decision Memorandum.

¹³ See APO and Service Final Rule.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. An electronically filed hearing request must be received successfully in its entirety by Commerce's electronic records system, ACCESS, by 5 p.m. Eastern Time within 30 days after the date of publication of this notice. If a request for a hearing is made, Commerce will inform parties of the scheduled date for the hearing.¹⁴

¹⁴ See 19 CFR 351.310(d).

Commerce intends to issue the final results of this administrative review, including the results of our analysis of issues raised by the parties in the written comments, within 120 days after the publication of this notice, unless otherwise extended.¹⁵

¹⁵ See section 751(a)(3)(A) of the Act and 19 CFR 351.213(h)(1).

Assessment Rates

Upon completion of the administrative review, Commerce shall determine, and U.S. Customs and Border Protection (CBP) shall assess, antidumping duties on all appropriate entries covered by this review.¹⁶ If the weighted-average dumping margin is not zero or de minimis (i.e., less than 0.5 percent), then Commerce will calculate importer-specific ad valorem antidumping duty assessment rates based on the ratio of the total amount of dumping calculated for each importer's examined sales to the total entered value of those same sales in accordance with 19 CFR 351.212(b)(1). If the weighted-average dumping margin is zero or de minimis in the final results, or if an importer-specific assessment rate is zero or de minimis in the final results, Commerce will instruct CBP to liquidate the appropriate entries without regard to antidumping duties.

¹⁶ See 19 CFR 351.212(b).

In accordance with Commerce's “automatic assessment” practice, for entries of subject merchandise that entered the United States during the POR that were produced by Shanti Worldwide for which Shanti Worldwide did not know that its merchandise was destined to the United States, Commerce will instruct CBP to liquidate unreviewed entries at the all-others rate, if there is no rate for the intermediate company(ies) involved in the transaction.¹⁷

¹⁷ For a full discussion of this practice, see Antidumping and Countervailing Duty Proceedings: Assessment of Antidumping Duties, 68 FR 23954 (May 6, 2003).

For the companies listed in Appendix II for which we are rescinding this review, we will instruct CBP to assess antidumping duties on all appropriate entries at a rate equal to the cash deposit of estimated antidumping duties required at the time of entry, or withdrawal from warehouse, in accordance with 19 CFR 351.212(c)(l)(i). Commerce intends to issue these rescission instructions to CBP no earlier than 35 days after the date of publication of this notice in the Federal Register.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of organic soybean meal from India entered, or withdrawn from warehouse, for consumption on or after the date of publication of the final results of this administrative review, as provided for by section 751(a)(2)(C) of the Act: (1) the cash deposit rate for the companies under review will be the rate established in the final results of this review (except, if the rate is zero or de minimis, no cash deposit will be required); (2) for previously reviewed or investigated companies not listed above, the cash deposit rate will continue to be the company-specific rate published for the most recent period; (3) if the exporter is not a firm covered in this review, a prior review, or the less-than-fair-value investigation, but the manufacturer is, the cash deposit rate will be the rate established for the most recent period for the manufacturer of the merchandise; and (4) the cash deposit rate for all other manufacturers or exporters will continue to be 3.07 percent, the all-others rate established in the investigation.¹⁸ These cash deposit requirements, when imposed, shall remain in effect until further notice.

¹⁸ See Order.

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

These preliminary results of administrative review are issued and published in accordance with sections 751(a)(1) and 777(i)(1) of the Act, and 19 CFR 351.221(b)(4).

Dated: May 30, 2024.
Abdelali Elouaradia,
Deputy Assistant Secretary for Enforcement and Compliance.

Appendix I

List of Topics Discussed in the Preliminary Decision Memorandum

I. Summary

II. Background

III. Scope of the Order

IV. Discussion of the Methodology

V. Recommendation

Appendix II

Companies for Which This Administrative Review Is Being Rescinded

1. Abhay Oil Industries

2. Agrawal Oil & Biocheam

3. Bergwerff Organic India Pvt., Ltd.; Bergwerff Organic Private Limited/Suminter.India Organic Private Limited

4. Bio Treasure Overseas

5. Delight Lifelike Products Private Ltd.

6. Delight Sustainable Products LLP

7. Eco Gold Nutri and Organics LLP.

8. Ecopure Specialities Ltd.

9. Jay Shree Agro Products

10. Kaj Traders

11. Kanishka Organics LLP

12. Keshav Proteins and Organic LLP.

13. Kiesriya Agro Exim Pvt., Ltd.

14. Mani Loni

15. Navjyot International Pvt., Ltd.

16. Prasad Cotton Industries Pvt., Ltd.

17. Radha Krishna Oil Product

18. Raj Foods International

19. Raj Natural Food Pvt., Ltd.

20. Rajat Agro Commodities Pvt., Ltd.

21. Reindeer Organics LLP.

22. Sai Smaran Foods Ltd.

23. Satguru Agro Resources Private Ltd.

24. Satguru Organics Pvt., Ltd.

25. Seasons International Pvt., Ltd.

26. Shanti Overseas

27. Shemach Impex

28. Shivam Enterprises

29. Shri Narayani Mfg. Co.

30. Suminter India Organics Pvt., Ltd.

31. Tejawat Organic Foods

32. Unique Organics Ltd.

33. Vimala Food Products

34. Vinod Kumar Ranjeet Singh Bafna

35. We Organic Nature Pvt. Ltd.

[FR Doc. 2024-12341 Filed 6-4-24; 8:45 am]

BILLING CODE 3510-DS-P